FEDERAL COMMUNICATIONS COMMISSION

47 CFR Part 73

[DA 06-2061; MB Docket No. 06-50; RM-11316]

Radio Broadcasting Services; Carrizo Springs, TX

AGENCY: Federal Communications Commission.

ACTION: Final rule.

SUMMARY: This document grants a petition for rulemaking filed by Jeraldine Anderson d/b/a Carrizo Springs Broadcasting requesting the allotment of Channel 295A at Carrizo Springs, Texas. The coordinates for Channel 295A at Carrizo Springs, Texas, are 28-27-00 NL and 99-50-30 WL. There is a site restriction 8.1 kilometers (5.1 miles) south of the community. A counterproposal filed by Linda Crawford is dismissed as defective.

DATES: Effective December 4, 2006

ADDRESSES: Secretary, Federal Communications Commission, 445 Twelfth Street, SW., Washington, DC 20554.

FOR FURTHER INFORMATION CONTACT: Victoria M. McCauley, Media Bureau, (202) 418-2180.

SUPPLEMENTARY INFORMATION: This is a synopsis of the Commission's Report and Order, MB Docket No. 06-50, adopted October 18, 2006, and released October 20, 2006. The Notice of Proposed Rulemaking proposed the allotment of Channel 295A at Carrizo Springs, Texas. 71 FR 14444, March 22, 2006. The full text of this Commission decision is available for inspection and copying during normal business hours in the FCC's Reference Information Center at Portals II, CY-A257, 445 Twelfth Street, SW., Washington, DC. This document may also be purchased from the Commission's duplicating contractors, Best Copy and Printing, Inc., 445 12th Street, SW, Room CY-B402, Washington, DC 20054, telephone 800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

For the reasons discussed in the preamble, the Federal Communications Commission amends 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Texas, is amended by adding Channel 295A at Carrizo Springs, Texas.

Federal Communications Commission.
John A. Karousos,
Assistant Chief, Audio Division, Media Bureau.

[FR Doc. E6-18693 Filed 11-7-06; 8:45 am]

BILLING CODE 6712-01-P